DEPARTMENT OF TRANSPORTATION

Federal Aviation Administration

14 CFR Part 71

[Docket No. FAA-2012-1048; Airspace Docket No. 12-AAL-7]

RIN 2120-AA66

Amendment of Area Navigation Route T-240; AK

AGENCY: Federal Aviation Administration (FAA), DOT.

ACTION: Final rule; technical amendment.

SUMMARY: This action amends the legal description of area navigation (RNAV) route T-240 in Alaska by removing one waypoint that is no longer required and has been deleted from the National Airspace System Resources (NASR) database. In addition, the route description is amended to include the names of the navigation aids that comprise the route. The alignment of T-240 is not affected by this action.

DATES: Effective Dates: 0901 UTC, January 10, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

RNAV route T-240 extends between the Bettles, AK, VHF omnidirectional range/distance measuring equipment (VOR/DME) navigation aid and the Deadhorse, AK, VOR/DME. The route description currently includes the “NAMRE” waypoint. The FAA determined that NAMRE is no longer required for air traffic control purposes and has deleted NAMRE from the NASR database.

The Rule

This action amends Title 14 Code of Federal Regulations (14 CFR) part 71 by amending the legal description of RNAV route T-240 in Alaska to remove the NAMRE waypoint. The NAMRE waypoint is no longer required for air traffic control purposes and has been deleted from the NASR database. The removal of NAMRE does not affect the alignment or use of T-240. In addition, this action updates the description of T-240 by adding the names of the navigation aids that form the route. This standardizes the format for RNAV route descriptions in FAA Order 7400.9.

Since this action merely involves editorial changes to the legal description of RNAV route T-240, and does not involve a change in the dimensions or operating requirements of the affected route, I find that notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it revises the legal description of an RNAV route to maintain currency.

United States Area Navigation Routes are published in paragraph 6011 of FAA Order 7400.9W, dated August 8, 2012, and effective September 15, 2012, which is incorporated by reference in 14 CFR 71.1. The RNAV route listed in this document will be published subsequently in the Order.

Environmental Review

The FAA has determined that this action qualifies for categorical exclusion under the National Environmental Policy Act in accordance with FAA Order 1050.1E, Environmental Impacts: Policies and Procedures, paragraph 311a. This airspace action consists of editorial changes only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 6011 United States area navigation routes

* * * * *

T-240 Bettles, AK to Deadhorse, AK [Amended]

Bettles, AK (BTT) VOR/DME

(Lat. 66°54′18″ N., long. 151°32′09″ W.)

Deadhorse, AK (SCC) VOR/DME

(Lat. 70°11′57″ N., long. 148°24′58″ W.)

Gary A. Norek,
Manager, Airspace Policy and ATC Procedures Group.

[FR Doc. 2012-26324 Filed 10-25-12; 8:45 am]

BILLING CODE 4910-13-P